DEPARTMENT OF TRANSPORTATION

Federal Aviation Administration

14 CFR Part 71

[Docket No. FAA-2023-1186; Airspace Docket No. 23-ASO-22]

RIN 2120-AA66

Amendment of Class E Airspace; Cedartown, GA

AGENCY: Federal Aviation Administration (FAA), DOT.

ACTION: Final rule; technical amendment.

SUMMARY: A final rule was published in the Federal Register on July 24, 2023, amending Class E airspace extending upward from 700 feet above the surface for Polk County Airport/Cornelius Moore Field, Cedartown, Georgia. This action corrects the title of the amendment to associate the airspace with Georgia.

DATES: Effective 0901 UTC, March 21, 2024. The Director of the Federal Register approves this incorporation by reference action under 1 CFR part 51, subject to the annual revision of FAA Order JO 7400.11 and publication of conforming amendments.

FOR FURTHER INFORMATION CONTACT: Scott Stuart, Operations Support Group, Eastern Service Center, Federal Aviation Administration, 1701 Columbia Avenue, College Park, GA 30337; Telephone: (404) 305-5926.

SUPPLEMENTARY INFORMATION:

History

The FAA published a final rule in the Federal Register (88 FR 47361, July 24, 2023; corrected September 26, 2023 (FR 88 65797)) for Doc. No. FAA-2023-1186, amending Class E airspace extending upward from 700 feet above the surface for Polk County Airport/Cornelius Moore Field, Cedartown, Georgia, as a new instrument approach procedure has been designed for this airport. After publication, the FAA found the listed title associated with the airspace indicated Florida (FL) instead of Georgia (GA). This action corrects this error.

Correction to the Final Rule

Accordingly, pursuant to the authority delegated to me, the amendment of Class E airspace for Polk County Airport/Cornelius Moore Field, Cedartown, GA, in Docket No. FAA-2023-1186, as published in the Federal Register on July 24, 2023 (88 FR 47361; corrected September 26, 2023 (FR 88 65797)), is corrected in the Federal Register of July 24, 2023 (88 FR 47361) as follows:

§ 71.1 [Corrected]

On page 47362, in the first column, the title of “ASO FL E5 Cedartown, GA [Amended]” is corrected to read:

* * * * *

ASO GA E5 Cedartown, GA [Amended]

* * * * *

Issued in College Park, Georgia, on December 1, 2023.
Andreese C. Davis,
Manager, Airspace & Procedures Team South, Eastern Service Center, Air Traffic Organization.

[FR Doc. 2023-26784 Filed 12-13-23; 8:45 am]

BILLING CODE 4910-13-P